DEPARTMENT OF THE TREASURY

Internal Revenue Service

Open Meeting of the Taxpayer Advocacy Panel Volunteer Income Tax Assistance Project Committee

AGENCY: Internal Revenue Service (IRS) Treasury.

ACTION: Notice of meeting.

SUMMARY: An open meeting of the Taxpayer Advocacy Panel Volunteer Income Tax Assistance Project Committee will be conducted. The Taxpayer Advocacy Panel is soliciting public comments, ideas, and suggestions on improving customer service at the Internal Revenue Service.

DATES: The meeting will be held Wednesday, May 18, 2011; Thursday, May 19, 2011; and Friday, May 20, 2011.

FOR FURTHER INFORMATION CONTACT: Donna Powers at 1-888-912-1227 or 954-423-7977.

SUPPLEMENTARY INFORMATION: Notice is hereby given pursuant to Section 10(a)(2) of the Federal Advisory Committee Act, 5 U.S.C. App. (1988) that a meeting of the Taxpayer Advocacy Panel Volunteer Income Tax Assistance Project Committee will be held Wednesday, May 18, 2011 from 1 p.m. to 5 p.m.; Thursday, May 19, 2011 from 8 a.m. to 5 p.m.; and Friday, May 20, 2011 from 8 a.m. to 1 p.m. Eastern Time in Atlanta, GA. The public is invited to make oral comments or submit written statements for consideration. Notification of intent to participate must be made with Donna Powers. For more information and site location, please contact Ms. Powers at 1-888-912-1227 or 954-423-7977, or write TAP Office, 1000 South Pine Island Road, Suite 340, Plantation, FL 33324, or contact us at the Web site: http://www.improveirs.org.

The agenda will include various IRS Issues

Dated: March 24, 2011.
Shawn Collins,
Director, Taxpayer Advocacy Panel.

[FR Doc. 2011-7519 Filed 3-30-11; 8:45 am]

BILLING CODE 4830-01-P